DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of two individuals whose property and interests in property are blocked pursuant to Executive Order 13224 of September 23, 2001, “Blocking Property and Prohibiting Transactions With Persons Who Commit, Threaten To Commit, or Support Terrorism.”

DATES: OFAC's actions described in this notice were effective on December 28, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On December 28, 2016, OFAC blocked the property and interests in property of the following two individuals pursuant to E.O. 13224, “Blocking Property and Prohibiting Transactions With Persons Who Commit, Threaten To Commit, or Support Terrorism”:

Individuals

1. MAHMOOD, Shahid (a.k.a. AHMED, Shahid Mehmood Manzoor; a.k.a. MEHMOOD, Shaheed; a.k.a. MEHMOUD, Shahid; a.k.a. REHMATULLAH, Shahid Mahmood), Karachi, Pakistan; DOB 10 Apr 1980; POB Pakistan; nationality Pakistan; Gender Male (individual) [SDGT] (Linked To: LASHKAR E-TAYYIBA).

2. SARWAR, Muhammad (a.k.a. ABU ALI HASHIM; a.k.a. ABU HASHIM; a.k.a. ABU UL-HASHIM; a.k.a. HASHIM, Abdul; a.k.a. HASHIM, Abul; a.k.a. RABBANI, Abul Hashim), Lahore, Pakistan; DOB 01 Jan 1966 to 31 Dec 1968; POB Sheikhupura, Pakistan; nationality Pakistan; Gender Male; Passport AK5995921 (Pakistan) issued 24 Mar 2007 expires 22 Mar 2012 (individual) [SDGT] (Linked To: LASHKAR E-TAYYIBA).

Dated: December 28, 2016.
John E. Smith,
Acting Director, Office of Foreign Assets Control.

[FR Doc. 2016-31787 Filed 12-30-16; 8:45 am]

BILLING CODE 4810-AL-P